DEPARTMENT OF HOUSING AND URBAN DEVELOPMENT

[Docket No. FR-4977-N-03]

Notice of Proposed Information Collection for the Survey of Consumer Perceptions of Factory-Build Housing

AGENCY: Office of the Policy Development and Research, HUD.

ACTION: Notice.

SUMMARY: The proposed information collection requirement described below will be submitted to the Office of Management and Budget (OMB) for review, as required by the Paperwork Reduction Act. The Department is soliciting public comments on the subject proposal.

DATES: Comments Due Date: July 5, 2005.

ADDRESSES: Interested persons are invited to submit comments regarding this proposal. Comments should refer to the proposal by name and/or OMB Control number and should be sent to: Reports Liaison Officer, Office of Policy Development and Research, Department of Housing and Urban Development, 451 7th Street, SW., Room 8226, Washington, DC 20410.

FOR FURTHER INFORMATION CONTACT: Dr. Carlos Martín, Office of Policy Development and Research, Department of Housing and Urban Development, Washington, DC 20410; telephone (202) 708-4370, extension 5845 for copies of the proposed forms and other available documents. (This is not a toll-free number.)

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) Minimize the burden of the collection of information on those who are to respond, including though the use of appropriate automated collection techniques or other forms of information technology (e.g., permitting electronic submission of responses).

This notice also lists the following information:

Title of Proposal: Survey of Consumer Perceptions of Factory-Build Housing.

Description of the need for the information and proposed use: This request is for the clearance of a survey instrument designed to measure American consumers perceptions of factory-build housing (including manufactured, modular, and panelized construction) in relation to traditional, “stick-build” housing construction. The purpose of the survey is: (1) To gauge through a national sample the understanding and accuracy of these housing types through either verbal (phone) or visual (internet) depictions of them; (2) ascertain whether preconceived notions with regard to financial value and technical performance exist across the housing types; and (3) to determine whether individual knowledge of these housing types correlate with perceptions and accurate depictions.

OMB Approval Number: Pending OMB approval.

Agency Form Numbers: None.

Members of Affected Public: Individuals.

Estimation of the total number of hours needed to prepare the information collection including number of respondents, frequency of response, and hours of response: 2,500 individuals will be surveyed through a phone survey (and up to an additional 10,000 will be included through an internet survey). Average time to complete the phone survey is 15 minutes, and the internet survey will be 10 minutes. Respondents will only be contacted once. Total burden hours are 625 for the primary telephone survey (and up to 1,667 hours for the additional internet survey).

Authority: Section 3506 of the Paperwork Reduction Act of 1995, 44 U.S.C. Chapter 35, as amended.

Dated: April 27, 2005.
Harold L. Bunce,
Deputy Assistance Secretary for Economic Affairs, Office of Policy Development and Research.

[FR Doc. 05-8833 Filed 5-3-05; 8:45 am]

BILLING CODE 4210-62-M